DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision on the firm involved.

The petitioners or any other persons showing a substantial interest in the subject matter of the investigations may request a public hearing, provided such request is filed in writing with the Director, Division of Trade Adjustment Assistance, at the address show below, not later than July 21, 2002.

Interested persons are invited to submit written comments regarding the subject matter of the investigations to the Director, Division of Trade Adjustment Assistance, at the address show below, not later than July 21, 2002.

The petitioners filed in this case are available for inspection at the Office of the Director, Division of Trade Adjustment Assistance, Employment and Training Administration, U.S. Department of Labor, Room C-5311, 200 Constitution Avenue, NW., Washington, DC 20210.

Signed at Washington, DC, this 25th day of March, 2002.
Edward A. Tomchick,
Director, Division of Trade Adjustment Assistance.

Appendix
[Petitions instituted on 03/25/2002]
TA-W | Subject firm (petitioners) | Location | Date of petition | Product(s)
41,102 | EA.Com, Inc. (Wkrs) | Charlottesville, VA | 02/11/2002 | Provide Services to Online Video Games.
41,103 | Metso Minerals Industries (PACE) | Clintonville, WI | 02/18/2002 | Conveyors and Crushing Plants—Gravel.
41,104 | Siegel Robert of Arkansas (Wkrs) | Wilson, AR | 02/27/2002 | Plastic Automotive Grilles and Parts.
41,105 | Arlee Home Fashions (Wrks) | Leachville, AR | 02/12/2002 | Chair Pad Pillow Covers.
41,106 | Hunter Fan Company (IUE) | Memphis, TN | 02/15/2002 | Ceiling Fans.
41,107 | Trinity Industries (Wrks) | Girard, OH | 02/13/2002 | Cold Rolled Plate for Railroad Cars.
41,108 | Cedar Hill Mfg., Inc (Comp) | Ansonville, NC | 02/25/2002 | Outer T Shirts, Sweatshirts, Other Tops.
41,109 | R.G. Knitting Mills, Inc (Wkrs) | Woonsocket, RI | 02/26/2002 | Knitted Fabric.
41,110 | Phillips Advance (Wrks) | Boscobel, WI | 02/12/2002 | Florescent Ballast.
41,111 | Invensys Climate Controls (Comp) | Brownsville, TX | 02/28/2002 | Plastic Molding Parts.
41,112 | Toshiba America Medical (Wkrs) | San Francisco, CA | 02/07/2002 | Magnetic Resonance Imagers.
41,113 | American Fine Wire Corp (Comp) | Salma, AL | 02/22/2002 | Gold and Aluminum Bonding Wire.
41,114 | Tyco Electronics (Wrks) | Stockton, CA | 03/06/2002 | Printed Circuit Board.
41,115 | Insteel Wire Products (Comp) | Andrews, SC | 02/20/2002 | Variery Products of Nails
41,116 | Standard Fusee Corp (Comp) | South Beloit, ILl | 02/19/2002 | Highway and Railway Flares.
41,117 | Canto Tool Corp (Comp) | Meadville, PAN | 02/08/2002 | Tools.
41,118 | Samuel Steel Pickling (wkrs) | Twinsburg, OH | 02/26/2002 | Provide Pickling Services—Steel.
41,119 | ADS Machinery Corp (Wrks) | Warren, OH | 02/19/2002 | Steel Processing Equipment.
41,120 | American Xtal Technology (Wrks) | Fremont, CA | 02/08/2002 | Wafers of GaAs and InP.
41,122 | Cer-Tek, Inc (Comp) | El Paso, TX | 02/07/2002 | Motor Speed Controllers.
41,123 | Aldrich Corp (Comp) | Greenwood, SC | 02/05/2002 | Textile Waste Handling/Collection Equip.
41,124 | Simpson Timber Co (IAM) | Shelton, WA | 02/14/2002 | Wood Panel.
41,125 | Dillon Yarn (Wrks) | Dillion, SC | 01/15/2002 | Textiles.
41,126 | U.S. Steel Corp (USWA) | Clariton, PA | 01/29/2002 | Coke for Blast Furnaces.
41,127 | Phaztech, Inc (Wkrs) | St. Marys, PA | 02/21/2002 | Tooling for Powder Metal Parts.
41,128 | ITW-Jecmco (Wkrs) | Minooka, IL | 02/01/2002 | Indicator Lamps.
41,129 | Orvis Co., Inc (The) (Comp) | Tipton, MO | 02/25/2002 | Luggage Bags.
41,130 | Tristar Refractories (Comp) | Cincinnati, OH | 02/19/2002 | Ceramic Tubes.
41,131 | David White LLC () | Berlin, WI | 02/25/2002 | Surveying Equipment.
41,132 | B/E Aerospace, Inc (Comp) | Jacksonville, FL | 02/25/2002 | Galley, Lavatories, Closets for Aircraft.
41,133 | Baldwin Piano and Organ (UFCW) | Greenwood, MS | 02/13/2002 | Pianos.
41,134 | N.J. Petterson, Inc. (Wkrs) | Mentor, OH | 02/20/2002 | Software Consulting Services.
41,135 | Erie Forge and Steel (USWA) | Erie, PA | 02/25/2002 | Ingots and Billets.
41,136 | Keystone Powdered Metal (IUE) | St. Marys, PA | 02/10/2002 | Bearings.
41,137 | ASL—Dallas Plant (Comp) | Dallas, TX | 02/11/2002 | Pillow Shells.
41,138 | Huntsman Polymers Corp. (Wkrs) | Odessa, TX | 02/13/2002 | Styrene Monomer.
41,139 | Garvin Industries (Wkrs) | Grand Haven, MI | 02/20/2002 | Metal Stampings.
41,140 | Columbiaknit (Comp) | Portland, OR | 02/13/2002 | Knit Shirts.
41,141 | Garan, Inc. (Wkrs) | Kaplan, LA | 02/08/2002 | Women and Children, Shirts.
41,142 | SPX Valves and Controls (Comp) | Lake City, PA | 02/26/2002 | Valves.
41,143 | Liebert Corp. (Comp) | Delaware, OH | 02/25/2002 | Un-interruptable Power Supply.
41,144 | Dawson Furniture Co (Comp) | Webb City, MO | 02/20/2002 | Solid Wood Household Furniture.
41,145 | US Ecology—Idaho (Wkrs) | Sterling, IL | 02/02/2002 | Provide Hazardous waste processing.
41,146 | Voest-Alpine Industries (Wkrs) | Canonsburg, PA | 02/25/2002 | Provide Various Engineering Services.
41,147 | Boeing Co. (The) (Comp) | Salt Lake City, UT | 02/06/2002 | Aircraft Parts.
41,148 | Brook Manufacturing Co (Comp) | Union, MS | 02/21/2002 | Pedal Box Modules.
41,149 | Steel Heddle, Inc. (Comp) | Greenville, SC | 02/05/2002 | Components for Textile Weaving Machines.
41,150 | Robur Corp (Comp) | Evansville, IN | 02/11/2002 | Gas Absorption Chillers—Air Condition.
41,151 | Bernard Chaus, Inc. (Wrks) | Secaucus, NJ | 02/07/2002 | Garments.
41,152 | Haworth, Inc (Wrks) | Holland, MI | 01/15/2002 | Freestanding, Wood, and Veneer Products.
41,153 | Georgia Pacific Corp (SCIW) | Louisville, MS | 01/08/2002 | Southern Plywood.
41,154 | Justin Brands (Wkrs) | El Paso, TX | 01/31/2002 | Boots.
41,155 | International Steel Wool (Comp) | Springfield, OH | 01/14/2002 | Annealed Steel Wool.
41,156 | London Harness and Cable (Wrks) | Trenton, NJ | 01/13/2002 | Wring Harness.
41,157 | Kolenda Tool and Die (Comp) | Wyoming, MI | 01/15/2002 | Plastic Injection Molds for Automobiles.
41,158 | P/E Technologies, Inc (USWA) | Cleveland, OH | 01/28/2002 | Rebuilding Steel Mill Machinery.
41,159 | Renfro (Wrks) | Star, NC | 01/30/2002 | Hosiery/Socks.
41,160 | MK Gold Company (Wrks) | Searchlight, NY | 01/18/2002 | Contact Mining Services.
41,161 | Wheeling Pittsburgh Steel (USWA) | Wheeling, WV | 03/18/2002 | Intergrated Steel.
41,162 | Delphi Automotive Systems (Wkrs) | Oak Creek, WI | 01/03/2002 | Engineering Design Work.
41,163 | Crane Merchandising (Comp) | Bridgetown, MO | 01/29/2002 | Vending Machines.
41,164 | Britax Heath Techna, Inc (Wkrs) | Bellingham, WA | 01/30/2002 | Aircraft Interior Components.
41,165 | Flextronics Enclosures (Wrks) | Smithfield, NC | 01/21/2002 | Motorola Cabinets.
41,166 | Goetz Dolls, Inc. (Wkrs) | Baldwinsville, NY | 01/15/2002 | Vinyl Limbs for Dolls.
41,167 | Tri-Way Manufacturing (Wrks) | El Paso, TX | 01/26/2002 | Plastic Injection Molds.
41,168A | Duplex Novelty Corp (UNITE) | New York, NY | 01/17/2002 | Wooden Buttons.
41,168 | Duplex Novelty Corp (UNITE) | Bronx, NY | 01/17/2002 | Wooden Buttons.
41,169 | Fruit of The Loom, Inc (Wrks) | Jamestown, KY | 01/21/2002 | Underwear, Sweatshirts, Sweatpants.
41,170 | Hoskins Manufacturing Co (Wrks) | Hamburg, MI | 11/29/2001 | Alloy Wires.
41,171 | Western Log Homes (Comp) | Chiloquin, OR | 11/02/2001 | Landscape and Housing Materials.
41,172 | Goodyear Tire and Rubber (Wrks) | Danville, VA | 11/07/2001 | Airplane Tires.
41,173 | Progress Lighting Co (IBEW) | Philadelphia, PA | 12/03/2001 | Lighting Fixtures.
41,174 | Ketcham Diversified Tool (Comp) | Cambridge Sprgs, PA | 12/31/2001 | Machine Parts, Molds, Dies.
41,175 | A. Brod, Inc. (Comp) | Long Island Cty, NY | 12/14/2001 | Hats.
41,176 | Eastern Felt Company (UNITE) | Westerly, RI | 12/20/2001 | Non-Woven Needle Pouch.
41,177 | Dana Corp., Victor Reinz (Comp) | Robinson, IL | 10/25/2001 | Soft Gaskets & Engine Repair Kits.
41,178 | Pabst Brewing Co (Wrks) | Fogelsville, PA | 09/21/2001 | Beer and Malt Beverages.
41,179 | Pemco, Inc (Comp) | Sheboygan, WI | 02/14/2002 | Speed Ream Wrapper.
41,180 | Johnston and Murphy (Comp) | Nashville, TN | 02/20/2002 | Footwear.
41,181 | Motorola (Comp) | Elma, NY | 02/21/2002 | Automotive Electronic Modules.
41,182 | Hughes Fabricating Co (Wkrs) | Corinth, MS | 02/08/2002 | Electrical Cover Plates, Brackets.
41,183 | Alcoa Lebanon Works (Wrks) | Lebanon, PA | 02/05/2002 | Various Aluminum Foil Products.
41,184 | Xerox Corp (UNITE) | El Segundo, CA | 02/26/2002 | Electronic Printed Circuit Boards.
41,185A | Pittsburgh Logistics (Wkrs) | Rochester, PA | 02/18/2002 | Management of Warehousing & Distribution.
41,1185 | Pittsburgh Logistics (Wkrs) | Independence, OH | 02/18/2002 | Management of Warehousing & Distribution.
41,186 | Swanson-Erie Corp (UAW) | Erie, PA | 02/21/2002 | Automatic Assembly Machine.
41,187 | Flowline Div., Markovitz (Comp) | New Castle, PA | 02/18/2002 | Aluminium & Nickle Alloy Corrosion.
41,188A | Landau Uniform (Comp) | Olive Branch, MS | 02/18/2002 | Healthcare Uniforms—Plants, Shirts.
41,189 | Hitachi Electronic Device (Wrks) | Greenville, SC | 02/13/2002 | TV Tubes (CRT&PRT).
41,190 | TRW Automotive (Comp) | Cookeville, TN | 02/22/2000 | Automobile Airbags.
41,191 | Reflexite Display Optics (Wkrs) | Rochester, NY | 02/13/2002 | Retroreflective and Optical Products.
41,192 | Graham-Field Health Prod (Comp) | Bay Shore, NY | 02/13/2002 | Wheel Chairs, Walkers, etc.
41,193 | Progressive Technologies (Wkrs) | Pilot Mountain, NC | 02/25/2002 | Battert Packs.
41,194A | J. Allan Steel (USWA) | Pittsburgh, PA | 02/11/2002 | Cut & Distribute Carbon Steel Products.
41,194B | J. Allan Steel (USWA) | Pittsburgh, PA | 02/11/2002 | Cut & Distribute Carbon Steel Products.
41,194 | J. Allan Steel (USWA) | Pittsburgh, PA | 02/11/2002 | Cut & Distribute Carbon Steel Products.
41,195 | Wellman Thermal Systems (UAW) | Shelbyville, IN | 03/13/2002 | Heating elements.

[FR Doc. 02-14553 Filed 6-10-02; 8:45 am]

BILLING CODE 4510-30-M